DEPARTMENT OF COMMERCE

National Oceanic and Atmospheric Administration

[RTID 0648-XF228]

Marine Mammals and Endangered Species

AGENCY: National Marine Fisheries Service (NMFS), National Oceanic and Atmospheric Administration (NOAA), Commerce.

ACTION: Notice; issuance of permits and a permit amendment.

SUMMARY: Notice is hereby given that permits and a permit amendment have been issued under the Marine Mammal Protection Act (MMPA) and the Endangered Species Act (ESA), as applicable.

ADDRESSES: The permits and related documents are available for review upon written request via email to NMFS.Pr1Comments@noaa.gov.

FOR FURTHER INFORMATION CONTACT: Erin Markin, Ph.D., (File No. 28678), Shasta McClenahan, Ph.D., (File No. 28408), and Jennifer Skidmore (File No. 22851); at (301) 427-8401.

SUPPLEMENTARY INFORMATION: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable. Notices were published in the Federal Register on the dates listed below that requests for a permit had been submitted. To locate the Federal Register notice that announced our receipt of the application and a complete description of the activities, go to https://www.federalregister.gov and search for the file number provided in table 1 below.

Table 1—Issued Permits and Permit Amendment
File No. | Version No. | RTID | Applicant | Previous Federal Register notice | Issuance date
22851 | 03 | 0648-XA624 | Sea Life Park Hawaii, 41-202 Kalanianaole Highway No. 7, Waimanalo, HI 96795 (Responsible Party: Amber Ramos, Ph.D.) | 85 FR 73263, November 17, 2020 | September 30, 2025.
28408 | N/A | 0648-XE924 | Iain Kerr, D.H.L., Ocean Alliance, 32 Horton Street, Gloucester, MA 01930 | 90 FR 35506, July 28, 2025 | September 10, 2025.
28678 | N/A | 0648-XE906 | Mariana Fuentes, Ph.D., Florida State University, 3263 Foley Drive, Tallahassee, FL 32309 | 90 FR 27528, June 27, 2025 | September 8, 2025.

In compliance with the National Environmental Policy Act of 1969 (42 U.S.C. 4321 et seq.), a final determination has been made that the activities proposed are categorically excluded from the requirement to prepare an environmental assessment or environmental impact statement.

As required by the ESA, as applicable, issuance of these permits was based on a finding that such permits: (1) were applied for in good faith; (2) will not operate to the disadvantage of such endangered species; and (3) are consistent with the purposes and policies set forth in section 2 of the ESA.

Dated: December 2, 2025.
Shannon Bettridge,
Chief, Marine Mammal and Sea Turtle Conservation Division, Office of Protected Resources, National Marine Fisheries Service.

[FR Doc. 2025-21956 Filed 12-3-25; 8:45 am]

BILLING CODE 3510-22-P